SECURITIES AND EXCHANGE COMMISSION

[Release No. 34-73627; File No. SR-CME-2014-28]

Self-Regulatory Organizations; Chicago Mercantile Exchange Inc.; Notice of Withdrawal of Proposed Rule Change Related to Enhancements to Risk Model for Credit Default Swaps

November 18, 2014.

On August 8, 2014, Chicago Mercantile Exchange Inc. (“CME”) filed with the Securities and Exchange Commission (“Commission”), pursuant to Section 19(b)(1) of the Securities Exchange Act of 1934 ¹ and Rule 19b-4 thereunder,² a proposed rule change (SR-CME-2014-28) relating to CME's Risk Model for Credit Default Swaps (“CDS”) as it applied only to broad-based index CDS products cleared by CME, and would not be applicable to security-based swaps. Notice of the proposed rule change was published in the Federal Register on August 18, 2014.³ Notice of Amendment No. 2 to the proposed rule change was published in the Federal Register on September 8, 2014.⁴ The Commission did not receive comments on the proposal.

¹ 15 U.S.C. 78s(b)(1).

² 17 CFR 240.19b-4.

³ Securities Exchange Act Release No. 34-72834 (August 13, 2014), 79 FR 48805 (August 18, 2014) (SR-CME-2014-28).

⁴ Securities Exchange Act Release No. 34-72959 (September 2, 2014), 79 FR 53234 (September 8, 2014) (SR-CME-2014-28). On August 18, 2014, CME filed Amendment No. 1 to the proposed rule change. CME withdrew Amendment No. 1 on August 29, 2014.

On October 1, 2014, the Commission extended the time period in which to either approve the proposed rule change, disapprove the proposed rule change, or institute proceedings to determine whether to disapprove the proposed rule change to November 16, 2014.⁵ On November 14, 2014, CME withdrew the proposed rule change (SR-CME-2014-28).

⁵ Securities Exchange Act Release No. 34-73283 (October 1, 2014), 79 FR 60563 (October 7, 2014) (SR-CME-2014-28).

⁶ 17 CFR 200.30-3(a)(12).

For the Commission, by the Division of Trading and Markets, pursuant to delegated authority.⁶
Kevin M. O'Neill,
Deputy Secretary.

[FR Doc. 2014-27705 Filed 11-21-14; 8:45 am]

BILLING CODE 8011-01-P